DEPARTMENT OF THE INTERIOR

Fish and Wildlife Service

[Docket No. FWS-R2-ES-2022-N072; FXES11130200000-223-FF02ENEH00]

Endangered and Threatened Wildlife and Plants; Initiation of 5-Year Status Reviews of 31 Species in the Southwest

AGENCY: Fish and Wildlife Service, Interior.

ACTION: Notice of initiation of reviews; request for information.

SUMMARY: We, the U.S. Fish and Wildlife Service, are conducting 5-year status reviews under the Endangered Species Act, of 31 animal and plant species. A 5-year status review is based on the best scientific and commercial data available at the time of the review; therefore, we are requesting submission of any such information that has become available since the last review for the species.

DATES: To ensure consideration, we are requesting submission of new information no later than February 10, 2023. However, we will continue to accept new information about any listed species at any time.

ADDRESSES: For details on how to request or submit information, see Request for Information and How Do I Ask Questions or Provide Information? in the SUPPLEMENTARY INFORMATION section.

FOR FURTHER INFORMATION CONTACT: For information on a particular species, contact the appropriate person or office listed in the table in the SUPPLEMENTARY INFORMATION section. For general information, contact Beth Forbus, by telephone at 505-248-6681; or by email at Beth_Forbus@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Why do we conduct 5-year reviews?

Under the Endangered Species Act of 1973, as amended (ESA; 16 U.S.C. 1531 et seq.), we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Our regulations at 50 CFR 424.21 require that we publish a notice in the Federal Register announcing those species under active review. For additional information about 5-year status reviews, refer to our factsheet at https://www.fws.gov/endangered/what-we-do/recovery-overview.html.

What information do we consider in our review?

A 5-year status review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the ESA); and

(E) Other new information, data, or corrections, including but not limited to taxonomic or nomenclatural changes, identification of erroneous information contained in the List, and improved analytical methods.

Any new information will be considered during the 5-year status review and will also be useful in evaluating the ongoing recovery programs for the species.

Which species are under review?

The species in the following table are under active 5-year status review.

Common name | Scientific name | Listing status | Current range | Final listing rule (Federal Register citation and publication date) | Contact person, phone, email | Contact person's U.S. mail address
ANIMALS
Houston toad | Bufo houstonensis | Endangered | Texas | 35 FR 16047 10/13/1970 | Field Supervisor, 512-490-0057 (phone) | U.S. Fish and Wildlife Service, Austin Ecological Services Office, 10711 Burnet Road, Suite 200, Austin, TX 78758.
Phantom tryonia | Tryonia cheatumi | Endangered | Texas | 78 FR 41227 7/9/2013
Phantom springsnail | Pyrgulopsis texana | Endangered | Texas | 78 FR 41227 7/9/2013
Tooth Cave spider | Tayshaneta myopica | Endangered | Texas | 53 FR 36029 9/16/1988
Tooth Cave pseudoscorpion | Tartarocreagris texana | Endangered | Texas | 53 FR 36029 9/16/1988
Bone Cave harvestman | Texella reyesi | Endangered | Texas | 53 FR 36029 9/16/1988
Bee Creek Cave harvestman | Texella reddelli | Endangered | Texas | 53 FR 36029 9/16/1988
Tooth Cave ground beetle | Rhadine persephone | Endangered | Texas | 53 FR 36029 9/16/1988
Kretschmarr Cave mold beetle | Texamaurops reddelli | Endangered | Texas | 53 FR 36029 9/16/1988
Coffin Cave mold beetle | Batrisodes texanus | Endangered | Texas | 53 FR 36029 9/16/1988
Diminutive amphipod | Gammarus hyalleloides | Endangered | Texas | 78 FR 41227 7/9/2013
Big Bend gambusia | Gambusia gaigei | Endangered | Texas | 32 FR 4001 3/11/1967
Pecos gambusia | Gambusia nobilis | Endangered | New Mexico and Texas | 35 FR 16047 10/13/1970
Texas hornshell | Popenaias popeii | Endangered | New Mexico and Texas | 83 FR 5720 3/12/2018 | Field Supervisor, 281-286-8282 (phone) or HoustonESFO@fws.gov (email) | U.S. Fish and Wildlife Service, Texas Coastal Ecological Services Field Office, 17629 El Camino Real, Suite 211, Houston, TX 77058.
Ouachita rock pocketbook | Arcidens wheeleri | Endangered | Arkansas and Oklahoma | 56 FR 54950 10/23/1991 | Field Office Supervisor, 918-581-7458 (phone), or OKProjectReview@fws.gov (email) | U.S. Fish and Wildlife Service, Oklahoma Ecological Services Field Office, 9014 East 21st Street, Tulsa, OK 74129.
Rio Grande silvery minnow | Hybognathus amarus | Endangered | New Mexico and Texas | 59 FR 36988 7/20/1994 | Field Supervisor, 505-346-2525 (phone) or nmesfo@fws.gov (email) | U.S. Fish and Wildlife Service, 2105 Osuna Rd. NE, Albuquerque, NM 87113-1001.
|  | Experimental, Non-essential | Texas |  | Field Supervisor, 512-490-0057 (phone) | U.S. Fish and Wildlife Service, Austin Ecological Services Office, 10711 Burnet Road, Suite 200, Austin, TX 78758.
Jemez Mountains salamander | Plethodon neomexicanus | Endangered | New Mexico | 78 FR 55599 9/10/2013 | Field Supervisor, 505-346-2525 (phone) or nmesfo@fws.gov (email) | U.S. Fish and Wildlife Service, 2105 Osuna Rd. NE, Albuquerque, NM 87113-1001.
Alamosa springsnail | Tryonia alamosae | Endangered | New Mexico | 56 FR 58664 9/30/1991
Little Colorado spinedace | Lepidomeda vittata | Threatened | Arizona | 32 FR 4001 3/11/1967 | Field Supervisor, 602-242-0210 (phone) or incomingazcorr@fws.gov (email) | U.S. Fish and Wildlife Service, Arizona Ecological Services Office, 9828 North 31st Avenue, #C3, Phoenix, AZ 85051-2517.
Sonoran pronghorn | Antilocapra americana sonoriensis | Endangered | Arizona | 32 FR 4001 3/11/1967
|  | Experimental, Non-essential |  | 76 FR 25593 5/5/2011
PLANTS
Kuenzler hedgehog cactus | Echinocereus fendleri var. kuenzleri | Threatened | New Mexico and Texas | 44 FR 61924 11/28/1979 | Field Supervisor, 505-346-2525 (phone) or nmesfo@fws.gov (email) | U.S. Fish and Wildlife Service, 2105 Osuna Rd. NE, Albuquerque, NM 87113-1001.
Lee pincushion cactus | Coryphantha sneedii var. leei | Threatened | New Mexico | 44 FR 61554 11/26/1979
Sneed pincushion cactus | Coryphantha sneedii var. sneedii | Threatened | New Mexico and Texas | 44 FR 64741 12/7/1979
Pecos sunflower | Helianthus paradoxus | Threatened | New Mexico and Texas | 64 FR 56583 10/20/1999
Acuna cactus | Echinomastus erectocentrus var. acunensis | Endangered | Arizona | 78 FR 60607 10/31/2013 | Field Supervisor, 602-242-0210 (phone) or incomingazcorr@fws.gov (email) | U.S. Fish and Wildlife Service, Arizona Ecological Services Office, 9828 North 31st Avenue, #C3, Phoenix, AZ 85051-2517.
Navajo sedge | Carex specuicola | Threatened | Arizona and Utah | 50 FR 19370 5/8/1985
White bladderpod | Physaria pallida | Endangered | Texas | 44 FR 64738 10/26/1979 | Field Supervisor, 281-286-8282 (phone) or HoustonESFO@fws.gov (email) | U.S. Fish and Wildlife Service, Texas Coastal Ecological Services Field Office, 17629 El Camino Real, Suite 211, Houston, TX 77058.
Zapata bladderpod | Physaria thamnophila | Endangered | Texas | 53 FR 37975 9/28/1988
Texas trailing phlox | Phlox nivalis ssp. texensis | Endangered | Texas | 47 FR 19539 5/6/1982
Lloyd's mariposa cactus | Sclerocactus mariposensis | Threatened | Texas | 44 FR 64347 12/6/1979
Guadalupe fescue | Festuca ligulata | Endangered | Texas | 82 FR 42245 10/10/2017

Request for Information

To ensure that a 5-year status review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts (also see FOR FURTHER INFORMATION CONTACT).

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A list of all completed and currently active 5-year status reviews can be found at https://ecos.fws.gov/ecp/report/species-five-year-review.

Authority

This document is published under the authority of the Endangered Species Act of 1973, as amended (16 U.S.C. 1531 et seq.).

Amy L. Lueders,
Regional Director, Southwest Region, U.S. Fish and Wildlife Service.

[FR Doc. 2023-00383 Filed 1-10-23; 8:45 am]

BILLING CODE 4333-15-P